DEPARTMENT OF TRANSPORTATION

Surface Transportation Board

[STB Finance Docket No. 34681]

Kiski Junction Railroad—Acquisition Exemption—Berkman Rail Services

Kiski Junction Railroad (Kiski), a noncarrier, has filed a verified notice of exemption under 49 CFR 1150.31 to acquire from Berkman Rail Services 5.2 miles of the Schenley Industrial Track as follows: (1) Line Code 2229, from milepost 30.0 at Railroad Station 59 + 24 in Aladdin, to milepost 28.91; and (2) Line Code 2242, from milepost 0.0 at the connection of Line Code 2229, to milepost 4.0 at Railroad Station 52 + 80, in Armstrong County, PA.

The earliest the transaction could be consummated was May 2, 2005 (7 days after filing the notice).

Kiski certifies that its projected revenues as a result of this transaction will not result in the creation of a Class II or Class I rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34681, must be filed with the Surface Transportation Board, 1925 K Street, NW., Washington, DC 20423-0001. In addition, a copy of each pleading must be served on Dean Falavolito, Burns, White & Hickton LLC, 4 Northshore Center, 106 Isabella St., Pittsburgh, PA 15212.

Board decisions and notices are available on our Web site at http://www.stb.dot.gov.

Decided: May 19, 2005.
By the Board, Joseph H. Dettmar, Acting Director, Office of Proceedings.
Vernon A. Williams,
Secretary.

[FR Doc. 05-10460 Filed 5-24-05; 8:45 am]

BILLING CODE 4915-01-P